DEPARTMENT OF DEFENSE

Office of the Secretary

Draft Environmental Impact Statement for the East Campus Integration Program, Fort Meade, Maryland

AGENCY: Department of Defense.

ACTION: Notice of availability; notice of public meeting; request for comments.

SUMMARY: The Department of Defense (DoD) announces the availability of the Draft Environmental Impact Statement (EIS) as part of the environmental planning process for the East Campus Integration Program at Fort George G. Meade, Maryland (hereafter referred to as Fort Meade). The DoD proposes to continue to develop operational complex and headquarters space at the National Security Agency's (NSA) East Campus on Fort Meade for use by NSA and the Intelligence Community. The purpose of the Proposed Action is to provide facilities that are fully supportive of the Intelligence Community's function and to continue to integrate the East Campus with the NSA Main Campus. The need for the action is to meet mission requirements, both internally at the NSA and within the Intelligence Community.

This notice announces a 45-day comment period and provides information on how to participate in the public review process. The public comment period for the Draft EIS will officially end 45 days after publication of the Notice of Availability in the Federal Register.

DATES: There will be an open house at 4:30 p.m. followed by a public meeting from 5:00 p.m. to 7:00 p.m. on August 3, 2016. The public meeting may end earlier or later than the stated time depending on the number of persons wishing to speak. All materials that are submitted in response to the Draft EIS should be received by August 22, 2016 to provide sufficient time to be considered in preparation of the Final EIS.

ADDRESSES: Copies of the Draft EIS are available for your review at the Medal of Honor Memorial Library, 4418 Llewellyn Avenue, Fort Meade, MD 20755; the Glen Burnie Regional Library, 1010 Eastway, Glen Burnie, MD 21060; the Odenton Regional Library, 1325 Annapolis Road, Odenton, MD 21113; and the Severn Library, 2624 Annapolis Road, Severn, Maryland 21144. You may also call 301-688-2970 or send an email to ECIPEIS@hdrinc.com to request a copy of the Draft EIS.

The open house and public meeting will be held at the Severn Library, 2624 Annapolis Road, Severn, Maryland 21144. Verbal and written comments will be accepted at the public meeting. You can also submit written comments to “East Campus Integration Program EIS” c/o HDR, 2600 Park Tower Drive, Suite 100, Vienna, VA 22180 or submit by email to ECIPEIS@hdrinc.com.

FOR FURTHER INFORMATION CONTACT: Mr. Jeffrey Williams at 301-688-2970, or email jdwill2@nsa.gov.

SUPPLEMENTARY INFORMATION:

Background: The NSA is a tenant DoD agency on Fort Meade. NSA is a high-technology communications and data processing organization. In order to meet mission requirements, both at the NSA and within the Intelligence Community, continued integration of the East Campus with the NSA Main Campus on Fort Meade through development of office, operational, and headquarters space is needed. In 2010, NSA completed an EIS that addressed development of facilities on the East Campus. The Record of Decision for the 2010 EIS allowed for initiation of construction currently occurring in the southern portion of the East Campus. This East Campus Integration Program Draft EIS addresses build-out of the northern portion of the East Campus and the adjacent 9800 Troop Support Area, and integration of the East Campus with the NSA Main Campus.

Proposed Action and Alternatives: The East Campus Integration Program was initiated to provide a modern office, operational, and headquarters complex to meet the growth requirements of the NSA and Intelligence Community. Development is proposed along the East Campus central core extending through the NSA Main Campus at Fort Meade. The Proposed Action consists of the construction of approximately 2,880,000 square feet of office, operational, and headquarters space supporting an increase of 7,200 people with the majority from local leases and government-owned buildings to the NSA Main Campus. The program also includes the demolition of approximately 1,900,000 square feet of buildings and infrastructure. Development would include associated infrastructure (e.g., electrical substation, emergency generator capacity providing 121 megawatts of electricity, life-safety generators, building heating systems, utilities, roads, sidewalks, stormwater management facilities, and parking facilities).

Alternatives identified include four options for emergency power generation and various pollution control systems, two options for building heating systems, four options for locations of parking facilities, and acquisition of additional space at two existing, offsite leased locations. Emergency power generation alternatives are generators and combined generators and combustion turbines. Building heating system alternatives are packaged boilers and a hybrid building heating system consisting of packaged boilers and ground source heat pumps. Parking facility alternatives consist of at least three of the following locations: East Campus Parking Structure 2, Bravo parking lot, N8/N9 parking lot, and Building 9817. Use of multi-level parking facilities were considered in lieu of surface parking. In conjunction with some construction and demolition on the East Campus, lease of space outside of Fort Meade at National Business Park and Annapolis Junction Business Park (Alternatives 1 and 2, respectively) were considered. The No Action Alternative (not undertaking the East Campus Integration Program) is also analyzed in detail.

Summary of Environmental Impacts: The level of environmental impacts potentially resulting from the Proposed Action and alternatives would primarily be dependent on the alternative ultimately selected. Environmental impacts would generally be slightly more adverse for the Proposed Action than for Alternatives 1 and 2 due to the larger building footprints and number of additional personnel associated with the Proposed Action, although facilities and personnel would be consolidated in one location under the Proposed Action.

Generally, construction and demolition would result in some ground disturbance and increased traffic congestion at intersections near the installation and proximal to the build sites, which would be expected regardless of the alternative selected. Operation of the East Campus Integration Program would be expected to result in long-term, negligible to moderate impacts on land use, noise, air quality, geological resources, water resources, biological resources, infrastructure, sustainability, hazardous materials and waste, and socioeconomic resources. Major impacts on transportation (levels of service) would occur during operation; however, traffic impacts are considered major under the existing conditions as levels of service are already degraded.

Best Management Practices and Mitigation Measures: The Proposed Action has the potential to result in adverse environmental impacts. The Proposed Action includes best management practices, mitigation measures, and design concepts to avoid adverse impacts to the extent practicable. Unavoidable impacts would be minimized or compensated for to the extent practicable. In accordance with Council on Environmental Quality regulations, mitigation measures are considered for adverse environmental impacts.

Copies of the Draft EIS are available for public review at local repositories and by request (see ADDRESSES). The DoD invites public and agency input on the Draft EIS. Please submit comments and materials during the 45-day public review period to allow sufficient time for consideration in development of the Final EIS (see DATES).

The DoD will consider all comments received and then prepare the Final EIS. As with the Draft EIS, DoD will announce the availability of the Final EIS and once again give you an opportunity for review and comment.

Dated: July 5, 2016.
Aaron Siegel,
Alternate OSD Federal Register Liaison Officer, Department of Defense.

[FR Doc. 2016-16175 Filed 7-7-16; 8:45 am]

BILLING CODE 5001-06-P